COMMISSION ON CIVIL RIGHTS

Agenda and Notice of Public Meeting of the California Advisory Committee

Notice is hereby given, pursuant to the provisions of the rules and regulations of the U.S. Commission on Civil Rights, that a planning meeting with briefing of the California Advisory Committee to the Commission will convene at 10 a.m. and adjourn at 3 p.m. on Friday, November 22, 2002, at the Family Center, 3355 Gage Avenue, Huntington Park, California 90255. The Committee will meet with the Huntington Park city officials to discuss the grievance procedure by employees and the complaint process by the citizens of Huntington Park.

Persons desiring additional information, or planning a presentation to the Committee, should contact Philip Montez, Director of the Western Regional Office, 213-894-3437 (TDD 213-894-3435). Hearing-impaired persons who will attend the meeting and require the services of a sign language interpreter should contact the Regional Office at least ten (10) working days before the scheduled date of the meeting.

The meeting will be conducted pursuant to the provisions of the rules and regulations of the Commission.

Dated at Washington, DC, October 31, 2002.
Ivy L. Davis,
Chief, Regional Programs Coordination Unit.

[FR Doc. 02-28191 Filed 11-5-02; 8:45 am]

BILLING CODE 6335-01-P